DEPARTMENT OF THE INTERIOR

Bureau of Land Management

[223.LLAK941200.L14400000.ET0000; AA-26417]

Notice of Proposed Withdrawal Extension and Opportunity for a Public Meeting; Sitka Magnetic Observatory Site; Alaska

AGENCY: Bureau of Land Management, Interior.

ACTION: Notice.

SUMMARY: The Secretary of the Interior proposes to extend the duration of the withdrawal created by an Executive Order as modified by Public Land Order (PLO) No. 6458 and extended by PLO No. 7581 for an additional 20-year term. The E.O. as modified and extended withdrew 117.13 acres of public land from all forms of appropriation under the public-land laws, including the mining laws, but not from mineral leasing, for the Sitka Magnetic Observatory site, and reserved the site for use by the United States Geological Survey (USGS) as a magnetic and seismological observation in Sitka, Alaska. This notice announces to the public an opportunity to comment on the proposal and request a public meeting for the 20-year withdrawal extension.

DATES: Comments and requests for a public meeting must be received by July 5, 2022.

ADDRESSES: All comments and meeting requests should be sent to the Alaska State Director, Bureau of Land Management (BLM) Alaska State Office, 222 West Seventh Avenue, No. 13, Anchorage, Alaska 99513-7504 or by email at blm_ak_state_director@blm.gov.

FOR FURTHER INFORMATION CONTACT: Chelsea Kreiner, BLM Alaska State Office, (907) 271-4205, email ckreiner@blm.gov or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: At the request of the USGS, the Secretary of the Interior proposes that Executive Order (E.O.) 8854 (6 FR 4181) as modified by PLO No. 6458 (48 FR 40232 (1983)) and extended by PLO No. 7581 (68 FR 52613 (2003)), which are incorporated herein by reference, be extended for an additional 20-year term.

A complete description of the public land affected, along with all other records pertaining to this extension, can be examined in the BLM Alaska State Office at the address shown above.

Notice is hereby given that an opportunity for a public meeting is afforded in connection with this withdrawal extension. All interested persons who desire a public meeting on this withdrawal extension must submit a written request to the BLM Alaska State Director at the address in the ADDRESSES section above. If the authorized officer determines that a public meeting will be held, a notice of the date, time, and place will be published in the Federal Register and local newspapers having general circulation in the vicinity of the land at least 30 days before the scheduled date of the meeting, which may be held virtually at the discretion of the authorized officer.

The withdrawal extension application will be processed in accordance with the regulations set-forth in 43 CFR 2310.4 and subject to section 810 of the Alaska National Interest Lands Conservation Act (16 U.S.C. 3120).

For a period until July 5, 2022, all persons who wish to submit comments, suggestions, or objections in connection with this proposed withdrawal extension may present their views in writing to the BLM Alaska State Director at the address indicated above. Before including your address, phone number, email address, or other personal identifying information in your comment, you should be aware that your entire comment—including your personal identifying information—may be made publicly available at any time. While you can ask the BLM in your comment to withhold your personal identifying information from public review, we cannot guarantee that we will be able to do so.

(Authority: 43 CFR 2310.4)

Thomas Heinlein,
Acting Alaska State Director.

[FR Doc. 2022-07063 Filed 4-4-22; 8:45 am]

BILLING CODE 4338-11-P